DEPARTMENT OF HOMELAND SECURITY

Coast Guard

33 CFR Part 165

[Docket Number USCG-2021-0327]

RIN 1625-AA00

Safety Zone; Patapsco River, Baltimore, MD

AGENCY: Coast Guard, DHS.

ACTION: Notice of proposed rulemaking.

SUMMARY: The Coast Guard is proposing to establish a temporary safety zone for certain waters of the Patapsco River. This action is necessary to provide for the safety of life on these navigable waters near the Francis Scott Key (I-695) Bridge, Baltimore, MD. This temporary safety zone is intended to restrict vessel traffic on the Patapsco River from September 1, 2021, through November 17, 2021, while work crews install power transmission lines crossing over the river. This proposed rulemaking would prohibit persons and vessels from being in the safety zone unless authorized by the Captain of the Port Maryland-National Capital Region or a designated representative. We invite your comments on this proposed rulemaking.

DATES: Comments and related material must be received by the Coast Guard on or before July 16, 2021.

ADDRESSES: You may submit comments identified by docket number USCG-2021-0327 using the Federal eRulemaking Portal at https://www.regulations.gov. See the “Public Participation and Request for Comments” portion of the SUPPLEMENTARY INFORMATION section for further instructions on submitting comments.

FOR FURTHER INFORMATION CONTACT: If you have questions about this proposed rulemaking, call or email Mr. Ron Houck, Sector Maryland-National Capital Region Waterways Management Division, U.S. Coast Guard; telephone 410-576-2674, email Ronald.L.Houck@uscg.mil.

SUPPLEMENTARY INFORMATION:

I. Table of Abbreviations

CFR Code of Federal Regulations

COTP Captain of the Port

DHS Department of Homeland Security

FR Federal Register

NPRM Notice of proposed rulemaking

§ Section

U.S.C. United States Code

II. Background, Purpose, and Legal Basis

On May 12, 2021, Baltimore Gas and Electric Company (BGE) provided the Coast Guard with details concerning activities associated with the installation of two new overhead power transmission lines crossing over the Patapsco River, from the vicinity of the Hawkins Point terminal Station on the west side of the Patapsco River to a location just north of Sollers Point Terminal Station on the east side of the Patapsco River, to be conducted from September 1, 2021, through November 17, 2021. BGE′s 11-week work schedule includes both primary and alternate workdays on Mondays through Fridays, with no work scheduled on weekends. The activities for wire stringing and the installation of the associated hardware for the project requires the use of a helicopter. The new overhead line segment will be supported by new steel monopole towers at eight locations, five of which will be in the Patapsco River. These in-water towers will range in height from 126 feet to 397 feet above the Patapsco River and will support two 230kV transmission circuits. Work will be done above and across the Patapsco River, on and between the steel towers located at approximate positions 39°12′46.87″ N, 076°32′14.05″ W; 39°12′58.56″ N, 076°31′58.74″ W; 39°13′13.79″ N, 076°31′38.79″ W; 39°13′26.61″ N, 076°31′21.98″ W; and 39°13′39.43″ N, 076°31′05.18″ W (NAD 1983), and those towers and the terminal stations located on shore. The span lengths between the in-water towers will range from 373 feet to 2,200 feet. The tallest towers and the high wire tensions used to support the wires in the 2,200 foot span that crosses the Fort McHenry Channel in Baltimore Harbor will be at a height of no less than 231 feet above the water. This installation process requires the temporary closure of the navigation channel near the Francis Scott Key (I-695) Bridge and the temporary closure of other portions of the Patapsco River nearby, including on multiple days during the stated installation period. A safety zone is proposed within the immediate vicinity of the power transmission line crossing. Hazards from the installation of overhead power transmission lines include low-hanging or falling ropes and cables, helicopter rotor downwash and noise, dangerous projectiles, and or other debris. The COTP Maryland-National Capital Region has determined that potential safety hazards associated with overhead power transmission line installation work would be a concern for anyone transiting the Patapsco River.

The purpose of this rule is to protect persons, vessels, and the marine environment on the navigable waters of the Patapsco River during the installation of overhead power transmission lines crossing over the river. The Coast Guard is proposing this rulemaking under authority in 46 U.S.C. 70034 (previously 33 U.S.C. 1231).

III. Discussion of Proposed Rule

The COTP is proposing to establish a temporary safety zone on a portion of the Patapsco River from September 1, 2021, through November 17, 2021, to be enforced while BGE installs overhead power transmission lines over the river. BGE reports its work crews will need to access the navigation channel and other portions of the Patapsco River near the Francis Scott Key (I-695) Bridge as outlined in the following sequence of activities for each of two circuits. The safety zone would be enforced during the times described below for each activity.

A. Installation of Circuit 2345

1. Activity #1: Fly the ropes into blocks. September 1, 2021, (alternate date September 7, 2021) and September 2, 2021, (alternate date September 8, 2021). On those dates, helicopter flights will be conducted to fly-in two rope spans. A full river closure is required for both flights. The first river closure would occur from 9 a.m. to 10:30 a.m. After this period, the helicopter will fly back to the staging area to re-fuel and prepare for the next rope pull and the river would open to vessel traffic. The second river closure would occur from 1 p.m. to 2:30 p.m. The river would close for the helicopter to complete the second pull.

2. Activity #2: Preparation to pull conductor. No activities requiring closure of navigation channel and other portions of the Patapsco River are planned from September 9, 2021 through September 12, 2021. On those dates, pull equipment will be set up at designated land-based locations.

3. Activity #3: Pull and clip in conductor and cable. September 13, 2021, (alternate date September 15, 2021), September 20, 2021, (alternate date September 22, 2021), September 24, 2021, (alternate date September 28, 2021), and September 27, 2021, (alternate date September 29, 2021). On September 13, 2021, September 20, 2021, and, September 24, 2021, equipment pulling operations will be conducted to pull the hardline across the river using the rope that were previously strung and the conductor pair across the river using the hardline. A full river closure is required for each pull. The first closure would occur from 9 a.m. to 10:30 a.m. After this period, the conductor reels will be re-set and prepared for the next pull, and the river would open to vessel traffic. The second closure would occur from 1 p.m. to 2:30 p.m. The river would close for the conductor reels to complete the second pull. On September 27, 2021, a full river closure is required for one pull. This closure would occur from 9 a.m. to 10:30 a.m.

4. Activity #4: Install dampers, spacers, and marker balls. October 5, 2021, (alternate date October 7, 2021), October 6, 2021, (alternate date October 8, 2021), October 7, 2021 (alternate date October 11, 2021), October 8, 2021, (alternate date October 12, 2021), and October 11, 2021, (alternate date October 13, 2021). On these dates, helicopter flights will be conducted each day to transport on-board helicopter lineman to install 30 conductor spacers each between Tower 1 and Tower 2, and between Tower 2 and Tower 3, 39 conductor spacers between Tower 3 and Tower 4 and 33 conductor spacers between Tower 4 and Tower 5, and 33 conductor spacers each between Tower 5 and Tower 6, and between Tower 6 and Tower 7. A partial river closure is required for all six flights on October 5, 2021. Partial river closures would occur between Tower 1 and Tower 2 from 6 a.m. to 7 a.m., from 8 a.m. to 9 a.m., and from 10 a.m. to 11 a.m. After each period, the helicopter will fly back to the staging area to re-fuel and pick up more materials, and the river between Tower 1 and Tower 2 would open to vessel traffic. Partial river closures would occur between Tower 2 and Tower 3 from 12 p.m. (noon) to 1 p.m., from 2 p.m. to 3 p.m., and from 4 p.m. to 5 p.m. After each period, the helicopter will fly back to the staging area to re-fuel and pick up more materials, and the river between Tower 2 and Tower 3 would open to vessel traffic for the remainder of the day. A navigation channel closure is required for all morning flights on October 6, 2021. Navigation channel closures would occur between Tower 3 and Tower 4 from 6 a.m. to 7 a.m., from 7:30 a.m. to 8:30 a.m., from 9 a.m. to 10 a.m., and from 10:30 a.m. to 11:30 a.m. After each period, the helicopter will fly back to the staging area to re-fuel and pick up more materials, and the river between Tower 3 and Tower 4 would open to vessel traffic. A partial river closure is required for all afternoon flights on October 6, 2021. Partial river closures would occur between Tower 4 and Tower 5 from 12 p.m. (noon) to 1 p.m., from 2 p.m. to 3 p.m., and from 4 p.m. to 5 p.m. After each period, the helicopter will fly back to the staging area to re-fuel and pick up more materials, and the river between Tower 4 and Tower 5 would open to vessel traffic for the remainder of the day. A partial river closure is required for all six flights on October 7, 2021. Partial river closures would occur between Tower 5 and Tower 6 from 6 a.m. to 7 a.m., from 8 a.m. to 9 a.m., and from 10 a.m. to 11 a.m. After each period, the helicopter will fly back to the staging area to re-fuel and pick up more materials, and the river between Tower 5 and Tower 6 would open to vessel traffic. Partial river closures would occur between Tower 6 and Tower 7 from 12 p.m. (noon) to 1 p.m., from 2 p.m. to 3 p.m., and from 4 p.m. to 5 p.m. After each period, the helicopter will fly back to the staging area to re-fuel and pick up more materials, and the river between Tower 6 and Tower 7 would open to vessel traffic for the remainder of the day. A partial river closure is required for eight flights, and a channel closure is required for six flights, on October 8, 2021. Partial river closures would occur between Tower 1 and Tower 2 from 6 a.m. to 6:30 a.m., from 7 a.m. to 7:30 a.m., from 8 a.m. to 8:30 a.m., and from 9 a.m. to 9:30 a.m. After each period, the helicopter will fly back to the staging area to re-fuel and pick up more materials, and the river between Tower 1 and Tower 2 would open to vessel traffic. Partial river closures would occur between Tower 2 and Tower 3 from 10 a.m. to 10:30 a.m., from 11 a.m. to 11:30 a.m., from 12 p.m. (noon) to 12:30 p.m., and from 1 p.m. to 1:30 p.m. After each period, the helicopter will fly back to the staging area to re-fuel and pick up more materials, and the river between Tower 2 and Tower 3 would open to vessel traffic. Navigation channel closures would occur between Tower 3 and Tower 4 from 2 p.m. to 2:30 p.m., from 3 p.m. to 3:30 p.m., from 4 p.m. to 4:30 p.m., from 5 p.m. to 5:30 p.m., from 6 p.m. to 6:30 p.m., and from 7 p.m. to 7:30 p.m. After each period, the helicopter will fly back to the staging area to re-fuel and pick up more materials, and the river between Tower 3 and Tower 4 would open to vessel traffic for the remainder of the day. A partial river closure is required for all 12 flights on October 11, 2021. Partial river closures would occur between Tower 4 and Tower 5 from 6 a.m. to 6:30 a.m., from 7 a.m. to 7:30 a.m., from 8 a.m. to 8:30 a.m., and from 9 a.m. to 9:30 a.m. After each period, the helicopter will fly back to the staging area to re-fuel and pick up more materials, and the river between Tower 4 and Tower 5 would open to vessel traffic. Partial river closures would occur between Tower 5 and Tower 6 from 10 a.m. to 10:30 a.m., from 11 a.m. to 11:30 a.m., from 12 p.m. (noon) to 12:30 p.m., and from 1 p.m. to 1:30 p.m. After each period, the helicopter will fly back to the staging area to re-fuel and pick up more materials, and the river between Tower 5 and Tower 6 would open to vessel traffic. Partial river closures would occur between Tower 6 and Tower 7 from 2 p.m. to 2:30 p.m., from 3 p.m. to 3:30 p.m., and from 4 p.m. to 4:30 p.m., and from 5 p.m. to 5:30 p.m. After each period, the helicopter will fly back to the staging area to re-fuel and pick up more materials, and the river between Tower 6 and Tower 7 would open to vessel traffic for the remainder of the day.

Dates of no scheduled activities requiring closure of navigation channel and other portions of the Patapsco River during the installation of Circuit 2345: September 3rd, September 4th, September 5th, September 6th, September 9th, September 10th, September 11th, September 12th, September 14th, September 16th, September 17th, September 18th, September 19th, September 21st, September 23rd, September 25th, September 26th, September 30th, October 1st, October 2nd, October 3rd, October 9th, and October 10th. On October 4, 2021, (alternate date October 6, 2021), specifically, helicopter flights will be conducted to transport personnel and equipment to the tower locations for workers to install dampers.

B. Installation of Circuit 2344

1. Activity #1: Fly the ropes into blocks. October 12, 2021, (alternate date October 14, 2021) and October 13, 2021, (alternate date October 15, 2021). On those dates, helicopter flights will be conducted to fly-in two rope spans. A full river closure is required for both flights. The first river closure would occur from 9 a.m. to 10:30 a.m. After this period, the helicopter will fly back to the staging area to re-fuel and prepare for the next rope pull and the river would open to vessel traffic. The second river closure would occur from 1 p.m. to 2:30 p.m. The river would close for the helicopter to complete the second pull.

2. Activity #2: Preparation to pull conductor. No activities requiring closure of navigation channel and other portions of the Patapsco River are planned from October 14, 2021, through October 17, 2021. On those dates, pull equipment will be set up at designated land-based locations.

3. Activity #3: Pull and clip in conductor and cable. October 18, 2021, (alternate date October 20, 2021), October 25, 2021, (alternate date October 27, 2021), November 1, 2021, (alternate date November 3, 2021), and November 3, 2021, (alternate date November 5, 2021). On those dates, four separate equipment pulling operations will be conducted to pull the hardline across the river using the rope that were previously strung and the conductor pair across the river using the hardline. A full river closure is required for each pull. The first closure would occur from 9 a.m. to 10:30 a.m. After this period, the conductor reels will be re-set and prepared for the next pull, and the river would open to vessel traffic. The second closure would occur from 1 p.m. to 2:30 p.m. The river would close for the conductor reels to complete the second pull.

4. Activity #4: Install dampers, spacers, and marker balls. November 9, 2021, (alternate date November 11, 2021), November 10, 2021, (alternate date November 12, 2021), November 11, 2021, (alternate date November 15, 2021), November 12, 2021, (alternate date November 16, 2021), and November 15, 2021, (alternate date November 17, 2021). On these dates, helicopter flights will be conducted each day to transport on-board helicopter lineman to install 30 conductor spacers each between Tower 1 and Tower 2, and between Tower 2 and Tower 3, 39 conductor spacers between Tower 3 and Tower 4 and 33 conductor spacers between Tower 4 and Tower 5, and 33 conductor spacers each between Tower 5 and Tower 6, and between Tower 6 and Tower 7. A partial river closure is required for all six flights on November 9, 2021. Partial river closures would occur between Tower 1 and Tower 2 from 6 a.m. to 7 a.m., from 8 a.m. to 9 a.m., and from 10 a.m. to 11 a.m. After each period, the helicopter will fly back to the staging area to re-fuel and pick up more materials, and the river between Tower 1 and Tower 2 would open to vessel traffic. Partial river closures would occur between Tower 2 and Tower 3 from 12 p.m. (noon) to 1 p.m., from 2 p.m. to 3 p.m., and from 4 p.m. to 5 p.m. After each period, the helicopter will fly back to the staging area to re-fuel and pick up more materials, and the river between Tower 2 and Tower 3 would open to vessel traffic for the remainder of the day. A navigation channel closure is required for all morning flights on November 10, 2021. Navigation channel closures would occur between Tower 3 and Tower 4 from 6 a.m. to 7 a.m., from 7:30 a.m. to 8:30 a.m., from 9 a.m. to 10 a.m., and from 10:30 a.m. to 11:30 a.m. After each period, the helicopter will fly back to the staging area to re-fuel and pick up more materials, and the river between Tower 3 and Tower 4 would open to vessel traffic. A partial river closure is required for all afternoon flights on November 10, 2021. Partial river closures would occur between Tower 4 and Tower 5 from 12 p.m. (noon) to 1 p.m., from 2 p.m. to 3 p.m., and from 4 p.m. to 5 p.m. After each period, the helicopter will fly back to the staging area to re-fuel and pick up more materials, and the river between Tower 4 and Tower 5 would open to vessel traffic for the remainder of the day. A partial river closure is required for all six flights on November 11, 2021. Partial river closures would occur between Tower 5 and Tower 6 from 6 a.m. to 7 a.m., from 8 a.m. to 9 a.m., and from 10 a.m. to 11 a.m. After each period, the helicopter will fly back to the staging area to re-fuel and pick up more materials, and the river between Tower 5 and Tower 6 would open to vessel traffic. Partial river closures would occur between Tower 6 and Tower 7 from 12 p.m. (noon) to 1 p.m., from 2 p.m. to 3 p.m., and from 4 p.m. to 5 p.m. After each period, the helicopter will fly back to the staging area to re-fuel and pick up more materials, and the river between Tower 6 and Tower 7 would open to vessel traffic for the remainder of the day. A partial river closure is required for eight flights, and a channel closure is required for six flights, on November 12, 2021. Partial river closures would occur between Tower 1 and Tower 2 from 6 a.m. to 6:30 a.m., from 7 a.m. to 7:30 a.m., from 8 a.m. to 8:30 a.m., and from 9 a.m. to 9:30 a.m. After each period, the helicopter will fly back to the staging area to re-fuel and pick up more materials, and the river between Tower 1 and Tower 2 would open to vessel traffic. Partial river closures would occur between Tower 2 and Tower 3 from 10 a.m. to 10:30 a.m., from 11 a.m. to 11:30 a.m., from 12 p.m. (noon) to 12:30 p.m., and from 1 p.m. to 1:30 p.m. After each period, the helicopter will fly back to the staging area to re-fuel and pick up more materials, and the river between Tower 2 and Tower 3 would open to vessel traffic. Navigation channel closures would occur between Tower 3 and Tower 4 from 2 p.m. to 2:30 p.m., from 3 p.m. to 3:30 p.m., from 4 p.m. to 4:30 p.m., from 5 p.m. to 5:30 p.m., from 6 p.m. to 6:30 p.m., and from 7 p.m. to 7:30 p.m. After each period, the helicopter will fly back to the staging area to re-fuel and pick up more materials, and the river between Tower 3 and Tower 4 would open to vessel traffic for the remainder of the day. A partial river closure is required for all 12 flights on November 15, 2021. Partial river closures would occur between Tower 4 and Tower 5 from 6 a.m. to 6:30 a.m., from 7 a.m. to 7:30 a.m., from 8 a.m. to 8:30 a.m., and from 9 a.m. to 9:30 a.m. After each period, the helicopter will fly back to the staging area to re-fuel and pick up more materials, and the river between Tower 4 and Tower 5 would open to vessel traffic. Partial river closures would occur between Tower 5 and Tower 6 from 10 a.m. to 10:30 a.m., from 11 a.m. to 11:30 a.m., from 12 p.m. (noon) to 12:30 p.m., and from 1 p.m. to 1:30 p.m. After each period, the helicopter will fly back to the staging area to re-fuel and pick up more materials, and the river between Tower 5 and Tower 6 would open to vessel traffic. Partial river closures would occur between Tower 6 and Tower 7 from 2 p.m. to 2:30 p.m., from 3 p.m. to 3:30 p.m., and from 4 p.m. to 4:30 p.m., and from 5 p.m. to 5:30 p.m. After each period, the helicopter will fly back to the staging area to re-fuel and pick up more materials, and the river between Tower 6 and Tower 7 would open to vessel traffic for the remainder of the day.

Dates of no scheduled activities requiring closure of navigation channel and other portions of the Patapsco River during the installation of Circuit 2344: October 16th, October 17th, October 19th, October 21st, October 22nd, October 23rd, October 24th, October 26th, October 28th, October 29th, October 30th, October 31st, November 2nd, November 4th, November 6th, November 7th, November 13th, and November 14th. On November 8, 2021 (alternate date November 10, 2021), specifically, helicopter flights will be conducted to transport personnel and equipment to the tower locations for workers to install dampers.

Due to the nature of the work and the hazards it presents to the workers and the public, the COTP has identified the need to close the Patapsco River near the Francis Scott Key (I-695) Bridge while this work is ongoing. On days the safety zone would be enforced, the affected area of the river would be closed during the dates and times scheduled. These dates and times may change due to weather, or for any reason that the primary dates and times could not be used. Alternative dates have been provided in the event the primary dates can not be used. Exact dates and times would be announced by broadcast notice to mariners, between one and five days in advance of the scheduled date, to alert mariners of the change. This safety zone would cover all navigable waters of the Patapsco River, encompassed by a line connecting the following points beginning at the shoreline at Thoms Cove at position latitude 39°12′36″ N, longitude 076°32′50″ W, thence east and south along the shoreline to Hawkins Point at latitude 39°12′40″ N, longitude 076°31′58″ W, thence northeast across the Patapsco River to Coffin Point at latitude 39°13′55″ N, longitude 076°30′18″ W, thence west and north along the shoreline to Sollers Point at latitude 39°14′01″ N, longitude 076°30′59″ W, thence west across the Patapsco River to and terminating at the point of origin, located at Baltimore, MD. The safety zone is approximately 4,000 yards in length and 900 yards in width.

This proposed rule provides additional information about areas within the safety zone and their definitions. These areas include “Area 1,” “Area 2,” “Area 3,” “Area 4,” “Area 5,” and “Area 6.” A diagram of the tower locations is provided in the docket folder. For instructions on locating the docket, see the ADDRESSES section of this preamble.

The duration of the rule and enforcement of the zone is intended to ensure the safety of personnel, vessels, and the marine environment in these navigable waters while the activities associated with the installation of two new overhead power transmission lines crossing over the Patapsco River are being conducted. The COTP would notify the public that the safety zone will be enforced by all appropriate means to the affected segments of the public, as practicable, in accordance with 33 CFR 165.7(a). Such means of notification may also include, but are not limited to, Broadcast Notice to Mariners. Vessels or persons violating this rule are subject to the penalties set forth in 46 U.S.C. 70036 (previously codified in 33 U.S.C. 1232) and 46 U.S.C. 70052 (previously codified in 50 U.S.C. 192).

Except for craft and equipment operated by BGE, or its subcontractors, no vessel or person would be permitted to enter the safety zone without obtaining permission from the COTP or a designated representative. The regulatory text we are proposing appears at the end of this document.

IV. Regulatory Analyses

We developed this proposed rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This NPRM has not been designated a “significant regulatory action,” under Executive Order 12866. Accordingly, the NPRM has not been reviewed by the Office of Management and Budget (OMB).

This regulatory action determination is based on the size, duration, day-of-week, and time of year of the proposed safety zone, which would impact a small designated area of the Patapsco River during certain weekdays (Mondays through Fridays, including holidays). Vessels or persons would not be allowed to enter or transit a portion of the Patapsco River for a total 97 enforcement-hours, over an 11-week period from September 1, 2021, through November 17, 2021, during active overhead power transmission line installation activities as described in the text above. The closures are scheduled to impose the least amount of impact on vessel operations in Baltimore Harbor. Due to the nature of the work and the hazards it presents to the workers and the public, the COTP has identified the need to close the Patapsco River in the vicinity of the overhead power line crossing while this work is ongoing. Moreover, the Coast Guard will issue Local Notices to Mariners and a Broadcast Notice to Mariners via VHF-FM marine channel 16 about the zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the safety zone may be small entities, for the reasons stated in section IV.A above, this proposed rule would not have a significant economic impact on any vessel owner or operator.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the rule would affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves a safety zone lasting 97 total enforcement hours that would prohibit entry within portions of the Patapsco River. Normally such actions are categorically excluded from further review under paragraph L60(a) of Appendix A, Table 1 of DHS Instruction Manual 023-01-001-01, Rev. 1. A preliminary Record of Environmental Consideration supporting this determination is available in the docket. For instructions on locating the docket, see the ADDRESSES section of this preamble. We seek any comments or information that may lead to the discovery of a significant environmental impact from this proposed rule.

G. Protest Activities

The Coast Guard respects the First Amendment rights of protesters. Protesters are asked to call or email the person listed in the FOR FURTHER INFORMATION CONTACT section to coordinate protest activities so that your message can be received without jeopardizing the safety or security of people, places, or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at https://www.regulations.gov. If your material cannot be submitted using https://www.regulations.gov, call or email the person in the FOR FURTHER INFORMATION CONTACT section of this document for alternate instructions.

We accept anonymous comments. Comments we post to https://www.regulations.gov will include any personal information you have provided. For more about privacy and submissions in response to this document, see DHS's eRulemaking System of Records notice (85 FR 14226, March 11, 2020).

Documents mentioned in this NPRM as being available in the docket, and public comments, will be in our online docket at https://www.regulations.gov and can be viewed by following that website's instructions. We review all comments received, but we will only post comments that address the topic of the proposed rule. We may choose not to post off-topic, inappropriate, or duplicate comments that we receive. If you go to the online docket and sign up for email alerts, you will be notified when comments are posted or a final rule is published.

List of Subjects in 33 CFR Part 165

Harbors, Marine safety, Navigation (water), Reporting and recordkeeping requirements, Security measures, Waterways.

For the reasons discussed in the preamble, the Coast Guard is proposing to amend 33 CFR part 165 as follows:

PART 165—REGULATED NAVIGATION AREAS AND LIMITED ACCESS AREAS

1. The authority citation for part 165 continues to read as follows:

Authority: 46 U.S.C. 70034, 70051; 33 CFR 1.05-1, 6.04-1, 6.04-6, and 160.5; Department of Homeland Security Delegation No. 0170.1.

2. Add § 165.T05-0327 to read as follows:

§ 165.T05-0327 Safety Zone; Patapsco River, Baltimore, MD.

(a) Location. The following area is a safety zone: All navigable waters of the Patapsco River, encompassed by a line connecting the following points beginning at the shoreline at Thoms Cove at position latitude 39°12′36″ N, longitude 076°32′50″ W, thence east and south along the shoreline to Hawkins Point at latitude 39°12′40″ N, longitude 076°31′58″ W, thence northeast across the Patapsco River to Coffin Point at latitude 39°13′55″ N, longitude 076°30′18″ W, thence west and north along the shoreline to Sollers Point at latitude 39°14′01″ N, longitude 076°30′59″ W, thence west across the Patapsco River to and terminating at the point of origin, located at Baltimore, MD. The following areas are within the safety zone:

(1) Area 1. All navigable waters within the safety zone described in paragraph (a) of this section, located between Tower 1 at latitude 39°12′35.73″ N, longitude 076°32′30.00″ W, and Tower 2 at latitude 39°12′46.87″ N, longitude 076°32′14.05″ W.

(2) Area 2. All navigable waters within the safety zone described in paragraph (a) of this section, located between Tower 2 at latitude 39°12′46.87″ N, longitude 076°32′14.05″ W, and Tower 3 at latitude 39°12′58.56″ N, longitude 076°31′58.74″ W.

(3) Area 3. All navigable waters within the safety zone described in paragraph (a) of this section, located between Tower 3 at latitude 39°12′58.56″ N, longitude 076°31′58.74″ W, and Tower 4 at latitude 39°13′13.79″ N, longitude 076°31′38.79″ W.

(4) Area 4. All navigable waters within the safety zone described in paragraph (a) of this section, located between Tower 4 at latitude 39°13′13.79″ N, longitude 076°31′38.79″ W, and Tower 5 at latitude 39°13′26.61″ N, longitude 076°31′21.98″ W.

(5) Area 5. All navigable waters within the safety zone described in paragraph (a) of this section, located between Tower 5 at latitude 39°13′26.61″ N, longitude 076°31′21.98″ W, and Tower 6 at latitude 39°13′39.43″ N, longitude 076°31′05.18″ W.

(6) Area 6. All navigable waters within the safety zone described in paragraph (a) of this section, located between Tower 6 at latitude 39°13′39.43″ N, longitude 076°31′05.18″ W, and Tower 7 at latitude 39°13′52.14″ N, longitude 076°30′48.69″ W.

(7) These coordinates are based on datum NAD 83.

(b) Definitions. As used in this section—

Captain of the Port (COTP) means the Commander, U.S. Coast Guard Sector Maryland-National Capital Region.

Designated representative means a Coast Guard Patrol Commander, including a Coast Guard coxswain, petty officer, or other officer operating a Coast Guard vessel and a Federal, State, and local officer designated by or assisting the Captain of the Port Maryland-National Capital Region (COTP) in the enforcement of the safety zone.

Tower means a Baltimore Gas and Electric Company steel monopole structure used to support overhead high voltage transmission lines, located between the vicinity of the Hawkins Point Terminal Station on the west side of the Patapsco River and a location just north of Sollers Point Terminal Station on the east side of the Patapsco River.

(c) Regulations. (1) Under the general safety zone regulations in subpart C of this part, you may not enter the safety zone described in paragraph (a) of this section unless authorized by the COTP or the COTP's designated representative.

(2) To seek permission to enter, contact the COTP or the COTP's representative by telephone at 410-576-2693 or on Marine Band Radio VHF-FM channel 16 (156.8 MHz). Those in the safety zone must comply with all lawful orders or directions given to them by the COTP or the COTP's designated representative.

(d) Enforcement officials. The U.S. Coast Guard may be assisted in the patrol and enforcement of the safety zone by Federal, State, and local agencies.

(e) Enforcement periods. (1) Paragraphs (a)(1) through (6) of this section will be enforced:

(i) From 9 a.m. to 10:30 a.m. and from 1 p.m. to 2:30 p.m. on September 1, 2021. If necessary due to inclement weather or other reason on September 1, 2021, it will be enforced from 9 a.m. to 10:30 a.m. and from 1 p.m. to 2:30 p.m. on September 7, 2021;

(ii) from 9 a.m. to 10:30 a.m. and from 1 p.m. to 2:30 p.m. on September 2, 2021. If necessary due to inclement weather or other reason on September 2, 2021, it will be enforced from 9 a.m. to 10:30 a.m. and from 1 p.m. to 2:30 p.m. on September 8, 2021;

(iii) from 9 a.m. to 10:30 a.m. and from 1 p.m. to 2:30 p.m. on September 13, 2021. If necessary due to inclement weather or other reason on September 13, 2021, it will be enforced from 9 a.m. to 10:30 a.m. and from 1 p.m. to 2:30 p.m. on September 15, 2021;

(iv) from 9 a.m. to 10:30 a.m. and from 1 p.m. to 2:30 p.m. on September 20, 2021. If necessary due to inclement weather or other reason on September 20, 2021, it will be enforced from 9 a.m. to 10:30 a.m. and from 1 p.m. to 2:30 p.m. on September 22, 2021;

(v) from 9 a.m. to 10:30 a.m. and from 1 p.m. to 2:30 p.m. on September 24, 2021. If necessary due to inclement weather or other reason on September 24, 2021, it will be enforced from 9 a.m. to 10:30 a.m. and from 1 p.m. to 2:30 p.m. on September 28, 2021;

(vi) from 9 a.m. to 10:30 a.m. on September 27, 2021. If necessary due to inclement weather or other reason on September 27, 2021, it will be enforced from 9 a.m. to 10:30 a.m. on September 29, 2021;

(vii) from 9 a.m. to 10:30 a.m. and from 1 p.m. to 2:30 p.m. on October 12, 2021. If necessary due to inclement weather or other reason on October 12, 2021, it will be enforced from 9 a.m. to 10:30 a.m. and from 1 p.m. to 2:30 p.m. on October 14, 2021;

(viii) from 9 a.m. to 10:30 a.m. and from 1 p.m. to 2:30 p.m. on October 13, 2021. If necessary due to inclement weather or other reason on October 13, 2021, it will be enforced from 9 a.m. to 10:30 a.m. and from 1 p.m. to 2:30 p.m. on October 15, 2021;

(ix) from 9 a.m. to 10:30 a.m. and from 1 p.m. to 2:30 p.m. on October 18, 2021. If necessary due to inclement weather or other reason on October 18, 2021, it will be enforced from 9 a.m. to 10:30 a.m. and from 1 p.m. to 2:30 p.m. on October 20, 2021;

(x) from 9 a.m. to 10:30 a.m. and from 1 p.m. to 2:30 p.m. on October 25, 2021. If necessary due to inclement weather or other reason on October 25, 2021, it will be enforced from 9 a.m. to 10:30 a.m. and from 1 p.m. to 2:30 p.m. on October 27, 2021;

(xi) from 9 a.m. to 10:30 a.m. and from 1 p.m. to 2:30 p.m. on November 1, 2021. If necessary due to inclement weather or other reason on November 1, 2021, it will be enforced from 9 a.m. to 10:30 a.m. and from 1 p.m. to 2:30 p.m. on November 3, 2021; and

(xii) from 9 a.m. to 10:30 a.m. on November 3, 2021. If necessary due to inclement weather or other reason on November 3, 2021, it will be enforced from 9 a.m. to 10:30 a.m. on November 5, 2021.

(2) Paragraph (a)(1) of this section will be enforced:

(i) From 6 a.m. to 7 a.m., from 8 a.m. to 9 a.m., and from 10 a.m. to 11 a.m. on October 5, 2021. If necessary due to inclement weather or other reason on October 5, 2021, it will be enforced from 6 a.m. to 7 a.m., from 8 a.m. to 9 a.m., and from 10 a.m. to 11 a.m. on October 7, 2021;

(ii) from 6 a.m. to 6:30 a.m., from 7 a.m. to 7:30 a.m., from 8 a.m. to 8:30 a.m., and from 9 a.m. to 9:30 a.m. on October 8, 2021. If necessary due to inclement weather or other reason on October 8, 2021, it will be enforced from 6 a.m. to 6:30 a.m., from 7 a.m. to 7:30 a.m., from 8 a.m. to 8:30 a.m., and from 9 a.m. to 9:30 a.m. on October 12, 2021;

(iii) from 6 a.m. to 7 a.m., from 8 a.m. to 9 a.m., and from 10 a.m. to 10:30 a.m. on November 9, 2021. If necessary due to inclement weather or other reason on November 9, 2021, it will be enforced from 6 a.m. to 7 a.m., from 8 a.m. to 9 a.m., and from 10 a.m. to 10:30 a.m. on November 11, 2021; and

(iv) from 6 a.m. to 6:30 a.m., from 7 a.m. to 7:30 a.m., from 8 a.m. to 8:30 a.m., and from 9 a.m. to 9:30 a.m. on November 12, 2021. If necessary due to inclement weather or other reason on November 12, 2021, it will be enforced from 6 a.m. to 6:30 a.m., from 7 a.m. to 7:30 a.m., from 8 a.m. to 8:30 a.m., and from 9 a.m. to 9:30 a.m. on November 16, 2021.

(3) Paragraph (a)(2) of this section will be enforced:

(i) From 12 p.m. (noon) to 1 p.m., from 2 p.m. to 3 p.m., and from 4 p.m. to 5 p.m. on October 5, 2021. If necessary due to inclement weather or other reason on October 5, 2021, it will be enforced from 12 p.m. (noon) to 1 p.m., from 2 p.m. to 3 p.m., and from 4 p.m. to 5 p.m. on October 7, 2021;

(ii) from 10 a.m. to 10:30 a.m., from 11 a.m. to 11:30 a.m., from 12 p.m. (noon) to 12:30 p.m., and from 1 p.m. to 1:30 p.m. on October 8, 2021. If necessary due to inclement weather or other reason on October 8, 2021, it will be enforced from 10 a.m. to 10:30 a.m., from 11 a.m. to 11:30 a.m., from 12 p.m. (noon) to 12:30 p.m., and from 1 p.m. to 1:30 p.m. on October 12, 2021;

(iii) from 12 p.m. (noon) to 1 p.m., from 2 p.m. to 3 p.m., and from 4 p.m. to 5 p.m. on November 9, 2021. If necessary due to inclement weather or other reason on November 9, 2021, it will be enforced from 12 p.m. (noon) to 1 p.m., from 2 p.m. to 3 p.m., and from 4 p.m. to 5 p.m. on November 11, 2021; and

(iv) from 10 a.m. to 10:30 a.m., from 11 a.m. to 11:30 a.m., from 12 p.m. (noon) to 12:30 p.m., and from 1 p.m. to 1:30 p.m. on November 12, 2021. If necessary due to inclement weather or other reason on November 12, 2021, it will be enforced from 10 a.m. to 10:30 a.m., from 11 a.m. to 11:30 a.m., from 12 p.m. (noon) to 12:30 p.m., and from 1 p.m. to 1:30 p.m. on November 16, 2021.

(4) Paragraph (a)(3) of this section will be enforced:

(i) From 6 a.m. to 7 a.m., from 7:30 a.m. to 8:30 a.m., from 9 a.m. to 10 a.m., and from 10:30 a.m. to 11:30 a.m. on October 6, 2021. If necessary due to inclement weather or other reason on October 6, 2021, it will be enforced from 6 a.m. to 7 a.m., from 7:30 a.m. to 8:30 a.m., from 9 a.m. to 10 a.m., and from 10:30 a.m. to 11:30 a.m. on October 8, 2021;

(ii) from 2 p.m. to 2:30 p.m., from 3 p.m. to 3:30 p.m., from 4 p.m. to 4:30 p.m., from 5 p.m. to 5:30 p.m., from 6 p.m. to 6:30 p.m., and from 7 p.m. to 7:30 p.m. on October 8, 2021. If necessary due to inclement weather or other reason on October 8, 2021, it will be enforced from 2 p.m. to 2:30 p.m., from 3 p.m. to 3:30 p.m., from 4 p.m. to 4:30 p.m., from 5 p.m. to 5:30 p.m., from 6 p.m. to 6:30 p.m., and from 7 p.m. to 7:30 p.m. on October 12, 2021;

(iii) from 6 a.m. to 7 a.m., from 7:30 a.m. to 8:30 a.m., from 9 a.m. to 10 a.m., and from 10:30 a.m. to 11:30 a.m. on November 10, 2021. If necessary due to inclement weather or other reason on November 10, 2021, it will be enforced from 6 a.m. to 7 a.m., from 7:30 a.m. to 8:30 a.m., from 9 a.m. to 10 a.m., and from 10:30 a.m. to 11:30 a.m. on November 12, 2021; and

(iv) from 2 p.m. to 2:30 p.m., from 3 p.m. to 3:30 p.m., from 4 p.m. to 4:30 p.m., from 5 p.m. to 5:30 p.m., from 6 p.m. to 6:30 p.m., and from 7 p.m. to 7:30 p.m. on November 12, 2021. If necessary due to inclement weather or other reason on November 12, 2021, it will be enforced from 2 p.m. to 2:30 p.m., from 3 p.m. to 3:30 p.m., from 4 p.m. to 4:30 p.m., from 5 p.m. to 5:30 p.m., from 6 p.m. to 6:30 p.m., and from 7 p.m. to 7:30 p.m. on November 16, 2021.

(5) Paragraph (a)(4) of this section will be enforced:

(i) From 12 p.m. (noon) to 1 p.m., from 2 p.m. to 3 p.m., and from 4 p.m. to 5 p.m. on October 6, 2021. If necessary due to inclement weather or other reason on October 5, 2021, it will be enforced from 12 p.m. (noon) to 1 p.m., from 2 p.m. to 3 p.m., and from 4 p.m. to 5 p.m. on October 8, 2021;

(ii) from 6 a.m. to 6:30 a.m., from 7 a.m. to 7:30 a.m., from 8 a.m. to 8:30 a.m., and from 9 a.m. to 9:30 a.m. on October 11, 2021. If necessary due to inclement weather or other reason on October 11, 2021, it will be enforced from 6 a.m. to 6:30 a.m., from 7 a.m. to 7:30 a.m., from 8 a.m. to 8:30 a.m., and from 9 a.m. to 9:30 a.m. on October 13, 2021;

(iii) from 12 p.m. (noon) to 1 p.m., from 2 p.m. to 3 p.m., and from 4 p.m. to 5 p.m. on November 10, 2021. If necessary due to inclement weather or other reason on November 10, 2021, it will be enforced from 12 p.m. (noon) to 1 p.m., from 2 p.m. to 3 p.m., and from 4 p.m. to 5 p.m. on November 12, 2021; and

(iv) from 6 a.m. to 6:30 a.m., from 7 a.m. to 7:30 a.m., from 8 a.m. to 8:30 a.m., and from 9 a.m. to 9:30 a.m. on November 15, 2021. If necessary due to inclement weather or other reason on November 15, 2021, it will be enforced from 6 a.m. to 6:30 a.m., from 7 a.m. to 7:30 a.m., from 8 a.m. to 8:30 a.m., and from 9 a.m. to 9:30 a.m. on November 17, 2021.

(4) Paragraph (a)(5) of this section will be enforced:

(i) From 6 a.m. to 7 a.m., from 8 a.m. to 9 a.m., and from 10 a.m. to 11 a.m. on October 7, 2021. If necessary due to inclement weather or other reason on October 7, 2021, it will be enforced from 6 a.m. to 7 a.m., from 8 a.m. to 9 a.m., and from 10 a.m. to 11 a.m. on October 11, 2021;

(ii) from 10 a.m. to 10:30 a.m., from 11 a.m. to 11:30 a.m., from 12 p.m. (noon) to 12:30 p.m., and from 1 p.m. to 1:30 p.m. on October 11, 2021. If necessary due to inclement weather or other reason on October 11, 2021, it will be enforced from 10 a.m. to 10:30 a.m., from 11 a.m. to 11:30 a.m., from 12 p.m. (noon) to 12:30 p.m., and from 1 p.m. to 1:30 p.m. on October 13, 2021;

(iii) from 6 a.m. to 7 a.m., from 8 a.m. to 9 a.m., and from 10 a.m. to 11 a.m. on November 11, 2021. If necessary due to inclement weather or other reason on November 11, 2021, it will be enforced from 6 a.m. to 7 a.m., from 8 a.m. to 9 a.m., and from 10 a.m. to 11 a.m. on November 15, 2021; and

(iv) from 10 a.m. to 10:30 a.m., from 11 a.m. to 11:30 a.m., from 12 p.m. (noon) to 12:30 p.m., and from 1 p.m. to 1:30 p.m. on November 15, 2021. If necessary due to inclement weather or other reason on November 15, 2021, it will be enforced from 10 a.m. to 10:30 a.m., from 11 a.m. to 11:30 a.m., from 12 p.m. (noon) to 12:30 p.m., and from 1 p.m. to 1:30 p.m. on November 17, 2021.

(4) Paragraph (a)(6) of this section will be enforced:

(i) From 12 p.m. (noon) to 1 p.m., from 2 p.m. to 3 p.m., and from 4 p.m. to 5 p.m. on October 7, 2021. If necessary due to inclement weather or other reason on October 7, 2021, it will be enforced from 12 p.m. (noon) to 1 p.m., from 2 p.m. to 3 p.m., and from 4 p.m. to 5 p.m. on October 11, 2021;

(ii) from 2 p.m. to 2:30 p.m., from 3 p.m. to 3:30 p.m., from 4 p.m. to 4:30 p.m., from 5 p.m. to 5:30 p.m., from 6 p.m. to 6:30 p.m., and from 7 p.m. to 7:30 p.m. on October 11, 2021. If necessary due to inclement weather or other reason on October 11, 2021, it will be enforced from 2 p.m. to 2:30 p.m., from 3 p.m. to 3:30 p.m., from 4 p.m. to 4:30 p.m., from 5 p.m. to 5:30 p.m., from 6 p.m. to 6:30 p.m., and from 7 p.m. to 7:30 p.m. on October 13, 2021;

(iii) from 12 p.m. (noon) to 1 p.m., from 2 p.m. to 3 p.m., and from 4 p.m. to 5 p.m. on November 11, 2021. If necessary due to inclement weather or other reason on November 11, 2021, it will be enforced from 12 p.m. (noon) to 1 p.m., from 2 p.m. to 3 p.m., and from 4 p.m. to 5 p.m. on November 15, 2021; and

(iv) from 2 p.m. to 2:30 p.m., from 3 p.m. to 3:30 p.m., from 4 p.m. to 4:30 p.m., and from 5 p.m. to 5:30 p.m. on November 15, 2021. If necessary due to inclement weather or other reason on November 15, 2021, it will be enforced from 2 p.m. to 2:30 p.m., from 3 p.m. to 3:30 p.m., from 4 p.m. to 4:30 p.m., and from 5 p.m. to 5:30 p.m. on November 17, 2021.

Dated: June 10, 2021.
David E. O'Connell,
Captain, U.S. Coast Guard, Captain of the Port Maryland-National Capital Region.

[FR Doc. 2021-12580 Filed 6-15-21; 8:45 am]

BILLING CODE 9110-04-P